DEPARTMENT OF THE INTERIOR

Bureau of Land Management

[LLIDI00000.L10200000.PH0000 LXSS024D0000 241A 4500088890]

Notice of Public Meeting, Idaho Falls District Resource Advisory Council Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The Idaho Falls District RAC will meet in Idaho Falls, Idaho, June 6-7, 2016 for a two-day meeting. The first day will begin at 9:00 a.m. at the BLM Idaho Falls Office, 1405 Hollipark Drive, Idaho Falls, Idaho, with new member orientation. The entire RAC will convene at 1:00 p.m. A comment period will be held June 6, following introductions from 1:00-1:30. The second day will begin at same location starting at 8:30 a.m. adjourning at 1:00 p.m. Members of the public are invited to attend.

SUPPLEMENTARY INFORMATION: The first day will be new member orientation in the morning to explain the development of the BLM and purpose of the RAC. At 1:00 p.m. the rest of the RAC will convene to elect a secretary and continue with the full agenda. Topics include the sage-grouse implementation and discussion on bighorn/domestic sheep. On June 7, the RAC will meet at the Upper Snake Field Office at 8:30 a.m. to continue discussion on sage-grouse. The group will depart for the field at 9:30 a.m. to travel to the Medicine Lodge area to view allotments where potential conflicts exists between bighorn sheep and domestic sheep and discuss Lands with Wilderness Characteristics (LWC). The meeting will adjourn around 1:30 p.m.

The 15-member Council advises the Secretary of the Interior, through the Bureau of Land Management, on a variety of planning and management issues associated with public land management in the BLM Idaho Falls District (IFD), which covers eastern Idaho.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: Sarah Wheeler, RAC Coordinator, Idaho Falls District, 1405 Hollipark Dr., Idaho Falls, ID 83401. Telephone: (208) 524-7550. Email: sawheeler@blm.gov.

Dated: April 25, 2016.
Sarah Wheeler,
Resource Advisory Council Coordinator, BLM Idaho Falls District.

[FR Doc. 2016-10400 Filed 5-3-16; 8:45 am]

BILLING CODE 4310-GG-P